DEPARTMENT OF THE INTERIOR

Minerals Management Service

Agency Information Collection Activities: Submitted for Office of Management and Budget (OMB) Review; Comment Request

AGENCY: Minerals Management Service (MMS), Interior.

ACTION: Notice of an extension of a currently approved information collection (OMB Control Number 1010-0073).

SUMMARY: To comply with the Paperwork Reduction Act (PRA) of 1995, we are submitting to OMB for review and approval an information collection request (ICR) titled “30 CFR Part 220, Accounting Procedures for Determining Net Profit Share Payment for Outer Continental Shelf Oil and Gas Leases.” We are also soliciting comments from the public on this ICR.

DATES: Submit written comments on or before August 12, 2002.

ADDRESSES: Submit written comments to the Office of Information and Regulatory Affairs, OMB, Attention: Desk Officer for the Department of the Interior (OMB Control Number 1010-0073), 725 17th Street, NW., Washington, DC 20503. Also, submit copies of your written comments to Carol Shelby, Regulatory Specialist, Minerals Management Service, Minerals Revenue Management, P.O. Box 25165, MS 320B2, Denver, Colorado 80225. If you use an overnight courier service, MMS's courier address is Building 85, Room A-614, Denver Federal Center, Denver, Colorado 80225. You may also submit your comments at our email address mrm.comments@mms.gov. Include the title of the information collection and the OMB control number in the “Attention” line of your comment. Also include your name and return address. Submit electronic comments as an ASCII file avoiding the use of special characters and any form of encryption. If you do not receive a confirmation that we have received your email, contact Ms. Shelby at (303) 231-3151 or FAX (303) 231-3385.

FOR FURTHER INFORMATION CONTACT: Carol Shelby, telephone (303) 231-3151, FAX (303) 231-3385, or email Carol.Shelby@mms.gov.

SUPPLEMENTARY INFORMATION: Title: 30 CFR Part 220, Accounting Procedures for Determining Net Profit Share Payment for Outer Continental Shelf Oil and Gas Leases.

OMB Control Number: 1010-0073.

Bureau Form Number: None.

Abstract: The Department of the Interior (DOI) is responsible for the management of all mineral leasing activities on Federal and Indian lands. The Federal Oil and Gas Royalty Management Act of 1982 (30 U.S.C. 1701 et seq.) requires the Secretary of the Interior to establish a comprehensive fiscal accounting, auditing, and collection system to accurately determine oil and gas royalties and other payments, and to collect and account for those monies in a timely manner. The Secretary delegated the authority for royalty management to MMS to develop a net profit share bidding system to encourage exploration and development of oil and gas leases on submerged lands of the Outer Continental Shelf (OCS). Section 8(a) of the OCS Lands Act, as amended (43 U.S.C. 1331 et seq.), authorizes DOI to implement alternative bidding systems for the award of Federal oil and gas leases on the OCS. The net profit share lease (NPSL) system endeavors to balance the securing of a fair market return to the Federal Government for the lease of its lands with a fair profit to companies risking their investment capital. The system provides an incentive for early and expeditious exploration and development and provides for a sharing of the risks by the lessee and the Government. The bidding system incorporates a fixed capital recovery system as the means through which the lessee recovers costs of exploration and development from production revenues, along with a reasonable return on investment.

The NPSL lessees are required to maintain an NPSL capital account and to provide either annual or monthly reports using data maintained in the capital account. In addition, NPSL lessees must file a report after each inventory of controllable material and following the cessation of production. Further, when nonoperators of an NPSL lease call for an audit, they must notify MMS, and when DOI calls for an audit, the lessee must notify all nonoperators on the lease. These requirements can be found in 30 CFR 220.010, 220.031, and 220.033.

The MMS is requesting an extension of OMB's approval to continue to collect this information. Submission of this information is required in order for MMS to determine when NPSL royalty payments are due and to determine the proper amount of payment. Proprietary information that is submitted is protected, and there are no questions of a sensitive nature included in this information collection.

Frequency: Annually before production; monthly after production.

Estimated Number and Description of Respondents: 12 OCS oil and gas lessees.

Estimated Annual Reporting and Recordkeeping “Hour” Burden: 3,674 hours. The following chart shows the breakdown of the burden hours by CFR section and paragraph:

Section | Reporting or record keeping requirement | Burden hours per response | Annual number of responses | Annual burden hours
220.010(a) 220.030(a) | For each NPSL tract, an NPSL capital account shall be established and maintained by the lessee for NPSL operations. Each lessee * * * shall establish and maintain such records as are necessary * * * | 1 | 22 | 22
220.031(a) | Each lessee * * * shall file an annual report during the period from issuance of the NPSL until the first month in which production revenues are credited to the NPSL capital account | 16 | 5 | 80
220.031(b) | Beginning with the first month in which production revenues are credited to the NPSL capital account, each lessee * * * shall file a report for each NPSL, not later than 60 days following the end of each month | 16 | ¹ 204 | 3,264
220.031(d) | Each lessee * * * shall file a report not later than 90 days after each inventory is taken * * * | 8 | 22 | 176
220.031(e) | Each lessee * * * shall file a final report, not later than 60 days following the cessation of production * * * | 2 | 22 | 44
220.033(b)(1) | When non-operators of an NPSL lease call an audit in accordance with the terms of their operating agreement, the Director shall be notified of the audit call * * * | 2 | 22 | 44
220.033(b)(2) | If DOI determines to call for an audit, DOI shall notify the lessee of its audit call and set a time and place for the audit * * * The lessee shall send copies of the notice to the non-operators on the lease | 2 | 22 | 44
Total |  |  | 319 | 3,674
¹ 17 leases x 12 months.

Estimated Annual Reporting and Recordkeeping “Non-hour Cost” Burden: We have identified no “non-hour” cost burdens.

Comments: Section 3506(c)(2)(A) of the PRA (44 U.S.C. 3501 et seq.) requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on February 19, 2002, we published a Federal Register notice (67 FR 7394) with the required 60-day comment period announcing that we would submit this ICR to OMB for approval. We did not receive any comments. We have posted a copy of the ICR at our Internet Web site http://www.mrm.mms.gov/Laws_R_D/FRNotices/FRInfColl.htm. We will also provide a copy of the ICR to you without charge upon request.

If you wish to comment in response to this notice, please send your comments directly to the offices listed under the ADDRESSES section of this notice. The OMB has up to 60 days to approve or disapprove the information collection but may respond after 30 days. Therefore, to ensure maximum consideration, OMB should receive your comments by August 12, 2002. The PRA provides that an agency may not conduct or sponsor, and a person is not required to respond to, a collection of information unless it displays a currently valid OMB control number.

Public Comment Policy. We will post all comments received in response to this notice on our Internet Web site at http://www.mrm.mms.gov/Laws_R_D/InfoColl/InfoColCom.htm for public review. We also make copies of the comments, including names and addresses of respondents, available for public review during regular business hours at our offices in Lakewood, Colorado.

Individual respondents may request that we withhold their home address from the public record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: June 21, 2002.
Lucy Querques Denett,
Associate Director for Minerals Revenue Management.

[FR Doc. 02-17541 Filed 7-11-02; 8:45 am]

BILLING CODE 4310-MR-U